NUCLEAR REGULATORY COMMISSION

10 CFR Part 40

Rulemaking and Jurisdictional Working Groups; Uranium and Thorium

AGENCY: Nuclear Regulatory Commission.

ACTION: Notice of working group formation.

SUMMARY: The U.S. Nuclear Regulatory Commission (NRC) is announcing the formation of two working groups regarding its regulatory activities concerning the distribution of source materials and the jurisdictional and technical issues relating to the regulation of materials with low concentrations of uranium and thorium.

DATES: Working group meetings which are open to the public will be announced on the NRC web site, http://www.nrc.gov/NRC/PUBLIC/meet.html.

ADDRESSES: Meetings will be held at the Nuclear Regulatory Commission, Two White Flint North, 11545 Rockville Pike, Rockville, Maryland.

FOR FURTHER INFORMATION, CONTACT: Anthony J. DiPalo; e-mail:ajd@nrc.gov, telephone (301) 415-6191, Office of Nuclear Material Safety and Safeguards, USNRC, Washington DC 20555-0001.

SUPPLEMENTARY INFORMATION: The NRC is creating two joint NRC/Agreement State regulatory working groups. One working group will focus on the development of a rulemaking plan to address the distribution of source material ¹ to persons exempt from licensing and to general licensees, in a manner intended to make Part 40 more risk-informed. The other working group will focus on jurisdictional and technical issues regarding the regulation of materials with low concentrations of uranium and thorium.

¹ Source Material (10 CFR 40.4): (1) Uranium or thorium, or any combination thereof, in any physical or chemical form or (2) ores which contain by weight one-twentieth of one percent (0.05%) or more of (i) Uranium, (ii) thorium or (iii) any combination thereof. Source material does not include special nuclear material.

The Rulemaking Working Group will also be considering options to resolve issues raised in a Petition for Rulemaking (PRM-40-27) submitted to NRC by the State of Colorado and the Organization of Agreement States. The petitioner requested that NRC regulations governing small quantities of source material be amended to eliminate the exemption for source-material general licensees from the requirements that specify standards of protection against radiation and notification and instruction of individuals who participate in licensed activities. This working group will be composed of NRC and State representatives. A rulemaking plan is currently scheduled to be submitted to the Commission no later than March 2001.

The Jurisdictional Working Group will explore, along with the States, the Environmental Protection Agency, and the Occupational Safety and Health Administration, the best approach to delineate the responsibilities of NRC and other agencies regarding materials with low concentrations of uranium and thorium [10 CFR 40.13(a)]. The Jurisdictional Working Group will consult with the Departments of Energy, Interior, and Transportation, and the Army Corps of Engineers. This Working Group will develop a charter describing its activities and the approach that it will use to work toward delineating future Agency regulatory responsibilities. A status report of the working group activities and a plan for how to proceed are currently scheduled to be submitted to the Commission no later than March 2001.

Working group meetings will begin in early September and continue through November. Meeting dates and times, for those meetings which are open to the public, will be announced on the NRC public meeting web site, http://www.nrc.gov/NRC/PUBLIC/meet.html. In general, these meetings will be open for observation but, opportunity for public statements will be provided, as time permits. For planning purposes, observers from the public are requested to notify Roberta Gordon at (301) 415-7555, if they plan to attend.

Dated at Rockville, Maryland, this 22nd day of August 2000.
For the Nuclear Regulatory Commission.
Patricia K. Holahan,
Chief, Rulemaking and Guidance Branch, Division of Industrial and Medical Nuclear Safety, NMSS.

[FR Doc. 00-21887 Filed 8-25-00; 8:45 am]

BILLING CODE 7590-01-P